DEPARTMENT OF ENERGY

Federal Energy Regulatory Commission

[Project No. 2153-066]

United Water Conservation District; Notice of Waiver Period for Water Quality Certification Application

March 4, 2021.

On March 3, 2021, United Water Conservation District submitted to the Federal Energy Regulatory Commission (Commission) a copy of their application for a Clean Water Act section 401(a)(1) water quality certification filed with the California State Water Resources Control Board (California Water Board), in conjunction with the above captioned project. Pursuant to 40 CFR 121.6, we hereby notify the California Water Board of the following:

Date of Receipt of the Certification Request: March 3, 2021.

Reasonable Period of Time to Act on the Certification Request: One year.

Date Waiver Occurs for Failure to Act: March 3, 2022.

If the California Water Board fails or refuses to act on the water quality certification request by the above waiver date, then the agency's certifying authority is deemed waived pursuant to section 401(a)(1) of the Clean Water Act, 33 U.S.C. 1341(a)(1).

Kimberly D. Bose,
Secretary.

[FR Doc. 2021-04991 Filed 3-9-21; 8:45 am]

BILLING CODE 6717-01-P